DEPARTMENT OF TRANSPORTATION

Federal Aviation Administration

14 CFR Part 39

[Docket No. FAA-2006-24103; Directorate Identifier 2005-NM-241-AD; Amendment 39-14625; AD 2006-12-01]

RIN 2120-AA64

Airworthiness Directives; Airbus Model A300 B4-600R Series Airplanes, A300 C4-605R Variant F Airplanes, A300 F4-600R Series Airplanes; and Model A310-300 Series Airplanes

AGENCY: Federal Aviation Administration (FAA), Department of Transportation (DOT).

ACTION: Final rule.

SUMMARY: The FAA is adopting a new airworthiness directive (AD) for certain Airbus transport category airplanes. This AD requires replacing the existing vent float valve with a new, improved vent float valve. This AD results from reports of failure of the vent float valve in the left-hand outboard section of the trimmable horizontal stabilizer. We are issuing this AD to prevent, in the event of a lightning strike to the horizontal stabilizer, sparking of metal parts and debris from detached and damaged float valves, or a buildup of static electricity, which could result in ignition of fuel vapors and consequent fire or explosion.

DATES: This AD becomes effective July 17, 2006.

The Director of the Federal Register approved the incorporation by reference of certain publications listed in the AD as of July 17, 2006.

ADDRESSES: You may examine the AD docket on the Internet at http://dms.dot.gov or in person at the Docket Management Facility, U.S. Department of Transportation, 400 Seventh Street SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus transport category airplanes. That NPRM was published in the Federal Register on March 8, 2006 (71 FR 11555). That NPRM proposed to require replacing the existing vent float valve with a new, improved vent float valve.

Comments

We provided the public the opportunity to participate in the development of this AD. We have considered the comments received.

Request To Add Revised Service Information

The manufacturer, Airbus, advises that both of the service bulletins (Airbus Service Bulletins A300-28-6081 and A310-28-2155, both dated February 16, 2005) specified in the NPRM have been revised. Airbus notes that Airbus Service Bulletins A300-28-6081, Revision 01, dated October 11, 2005; and A310-28-2155, Revision 01, dated October 17, 2005, contain minor changes and that no additional work is required.

We agree with Airbus and have revised paragraph (f) of the AD to reflect the revised service bulletins. In addition, we have added a new paragraph (g) of this AD specifying that accomplishment of the actions specified in paragraph (f) of the AD in accordance with the original issuance of the service bulletins, as applicable, is considered to be an acceptable method of compliance. Subsequent paragraphs of the AD have been re-identified accordingly.

Request To Add a Phrase

One commenter, Modification and Replacement Parts Association (MARPA), states that the requirement to install a certain part number to the exclusion of any other part nullifies part 21 of the Federal Aviation Regulations (14 CFR part 21) by preventing the development and/or use of alternative parts. MARPA submits that this can be averted by adding the common phrase “or FAA-approved equivalent part number” as a suffix to the part number mandated to be installed. Additionally, MARPA referenced an existing AD that contains the phrase MARPA suggests.

In response to MARPA's request to add the phrase “or FAA-approved equivalent part number,” we do not agree. Whether an alternative part is “equivalent” in adequately resolving the unsafe condition can be determined only on a case-by-case basis based on a complete understanding of the unsafe condition. Our policy is that, in order for operators to replace a part with one that is not specified in the AD, they must request and receive approval of an Alternative Method of Compliance (AMOC). This is necessary so that we can make a specific determination that an alternative part is or is not susceptible to the same unsafe condition.

In response to the commenter's statement that the requirement to install a certain part number part to the exclusion of any other part nullifies part 21 of the FARs (14 CFR part 21) under which the FAA issues parts manufacturer approvals (PMAs), this statement appears to reflect a misunderstanding of the relationship between ADs and the certification procedural regulations of part 21 of the Federal Aviation Regulations (14 CFR part 21). Those regulations, including section 21.303 of the Federal Aviation Regulations (14 CFR 21.303), are intended to ensure that aeronautical products and parts are safe. But ADs are issued when, notwithstanding those procedures, we become aware of unsafe conditions in these products or parts. Therefore, an AD takes precedence over other “approvals” when we identify an unsafe condition, and mandating installation of a certain part number in an AD is not at variance with section 21.303.

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an AMOC, replacing a part with one not specified by the AD would make the operator subject to an enforcement action and result in a civil penalty. No change to the AD is necessary in this regard.

Conclusion

We have carefully reviewed the available data, including the comments received, and determined that air safety and the public interest require adopting the AD with the changes described previously. We have determined that these changes will neither increase the economic burden on any operator nor increase the scope of the AD.

Costs of Compliance

This AD will affect about 179 airplanes of U.S. registry. The actions will take about 4 work hours per airplane, at an average labor rate of $65 per work hour. Required parts will be provided by the manufacturer at no cost to the operator. Based on these figures, the estimated cost of this AD for U.S. operators is $46,540, or $260 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-01 Airbus: Amendment 39-14625. Docket No. FAA-2006-24103; Directorate Identifier 2005-NM-241-AD.

Effective Date

(a) This AD becomes effective July 17, 2006.

Affected ADs

(b) None.

Applicability

(c) This AD applies to Airbus Model A300 B4-605R and B4-622R airplanes, A300 C4-605R Variant F airplanes, A300 F4-605R and F4-622R airplanes; and Model A310-304, -322, -324, and -325 airplanes; certificated in any category, except those airplanes on which Airbus Modification 12897 has been accomplished in production.

Unsafe Condition

(d) This AD results from reports of a broken vent float valve in the left-hand outboard section of the trimmable horizontal stabilizer. We are issuing this AD to prevent, in the event of a lightning strike to the horizontal stabilizer, sparking of metal parts and debris from detached and damaged float valves, or a buildup of static electricity, which could result in ignition of fuel vapors and consequent fire or explosion.

Compliance

(e) You are responsible for having the actions required by this AD performed within the compliance times specified, unless the actions have already been done.

Action Heading

(f) Within 36 months after the effective date of this AD: Replace Intertechnique vent float valve, part number (P/N) L87-13-001, in the trim tank with P/N L87-13-003; in accordance with Airbus Service Bulletin A300-28-6081, Revision 01, dated October 11, 2005 (for Model A300 B4-605R and B4-622R airplanes, A300 C4-605R Variant F airplanes, and A300 F4-605R and F4-622R airplanes); or A310-28-2155, Revision 01, dated October 17, 2005 (for Model A310-304, -322, -324, and -325 airplanes).

Acceptable for Compliance

(g) Accomplishment of the actions required by paragraph (f) of this AD that are done before the effective date of this AD in accordance with Airbus Service Bulletin A300-28-6081 (for Model A300 B4-605R and B4-622R airplanes, A300 C4-605R Variant F airplanes, and A300 F4-605R and F4-622R airplanes) or A310-28-2155 (for Model A310-304, -322, -324, and -325 airplanes), both dated February 16, 2005, is acceptable for compliance with the requirements of paragraph (f) of this AD.

Alternative Methods of Compliance (AMOCs)

(h)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Parts Installation

(i) As of the effective date of this AD, no person may install a vent float valve, P/N L87-13-001, on any airplane.

Related Information

(j) French airworthiness directive F-2005-148, dated August 17, 2005, also addresses the subject of this AD.

Material Incorporated by Reference

(k) You must use Airbus Service Bulletin A300-28-6081, Revision 01, dated October 11, 2005; or Airbus Service Bulletin A310-28-2155, Revision 01, dated October 17, 2005; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 26, 2006.
Jeffrey E. Duven,
Acting Manager, Transport Airplane Directorate, Aircraft Certification Service.

[FR Doc. 06-5124 Filed 6-9-06; 8:45 am]

BILLING CODE 4910-13-P